DEPARTMENT OF DEFENSE

Office of the Secretary

[Transmittal No. 18-08]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 18-08 with attached Policy Justification.

Dated: February 1, 2019.
Shelly E. Finke,
Alternate OSD Federal Register Liaison Officer, Department of Defense.

BILLING CODE 5001-06-C

Transmittal No. 18-08

Notice of Proposed Issuance of Letter of Offer Pursuant to Section 36(b)(1) of the Arms Export Control Act, as Amended

(i) Prospective Purchaser: Kingdom of Morocco

(ii) Total Estimated Value:

Major Defense Equipment * | $ .009 billion
Other | $1.250 billion
TOTAL | $1.259 billion

(iii) Description and Quantity or Quantities of Articles or Services under Consideration for Purchase:

Enhancement of one hundred sixty-two (162) Abrams tanks procured through the Excess Defense Articles (EDA) program to one of the following variants: M1A1 Situational Awareness (baseline version), M1A2M (includes Commander's Independent Thermal Viewer) or M1A1 U.S. Marine Corps version (includes Slew to Cue).

Major Defense Equipment (MDE):

One hundred sixty-two (162) M2 Chrysler Mount Machine Guns

Three hundred twenty-four (324) M240 Machine Guns

One thousand thirty-five (1,035) M865 Training SABOT Rounds

One thousand six hundred ten (1,610) M831A1 HEAT Rounds

Non-MDE:

Also included are one hundred sixty-two (162) Export Single Channel Ground and Airborne Radio System (SINCGARS); one hundred sixty-two (162) RT-1702 Receiver Transmitter; one hundred sixty-two (162) M250 Smoke Grenade Launchers; M962 .50 caliber rounds; special armor; Hunter/Killer technology, which may include the Commander's Independent Thermal Viewer (CITV) or Slew to Cue solution; Commander's Weapon Station Variant which may include the Commander's Weapon Station (CWS), Stabilized Commander's Weapon Station (SCWS), or Common Remotely Operated Weapon Station- Low Profile (CROW-LP); spare parts; support equipment; upgrade/maintenance of engines and transmissions; depot level support; Government-Furnished Equipment (GFE); repair parts; communication support equipment; tool and test equipment; training; U.S. Government and contractor engineering, technical, and logistics support services; and other related elements of logistics and program support.

(iv) Military Department: Army (MO-B-USQ, Amendment 1)

(v) Prior Related Cases, if any: MO-B-USQ

(vi) Sales Commission, Fee, etc., Paid, Offered, or Agreed to be Paid: None

(vii) Sensitivity of Technology Contained in the Defense Article or Defense Services Proposed to be Sold: See Attached Annex

(viii) Date Report Delivered to Congress: November 28, 2018

* As defined in Section 47(6) of the Arms Export Control Act.

POLICY JUSTIFICATION

Morocco—Abrams Tank Enhancement, Support, and Equipment

The Government of Morocco has requested to purchase enhancements to one hundred sixty-two (162) Abrams tanks procured through the Excess Defense Article (EDA) program to one of the following variants: M1A1 Situational Awareness (baseline version), M1A2M (includes Commander's Independent Thermal Viewer) or M1A1 U.S. Marine Corps version (includes Slew to Cue). Included in the possible sale are one hundred sixty-two (162) M2 Chrysler Mount Machine Guns; three hundred twenty-four (324) M240 Machine Guns; one thousand thirty-five (1,035) M865 Training SABOT Rounds; and one thousand, six hundred ten (1,610) M831Al HEAT Rounds. Also included are one hundred sixty-two (162) Export Single Channel Ground and Airborne Radio System (SINCGARS); one hundred sixty-two (162) RT-1702 Receiver Transmitter; one hundred sixty-two (162) M250 Smoke Grenade Launchers; M962 .50 caliber rounds; special armor; Hunter/Killer technology, which may include the Commander's Independent Thermal Viewer (CITV) or Slew to Cue solution; Commander's Weapon Station Variant which may include the Commander's Weapon Station (CWS), Stabilized Commander's Weapon Station (SCWS), or Common Remotely Operated Weapon Station- Low Profile (CROW-LP); spare parts; support equipment; upgrade/maintenance of engines and transmissions; depot level support; Government-Furnished Equipment (GFE); repair parts; communication support equipment; tool and test equipment; training; U.S. Government and contractor engineering, technical, and logistics support services; and other related elements of logistics and program support. The total estimated program cost is $1.259 billion.

This proposed sale will support the foreign policy and national security objectives of the United States by improving the security and capacity of a major Non-NATO Ally.

This proposed sale of M1A1 tank enhancements will contribute to the modernization of Morocco's tank fleet, enhancing its ability to meet current and future threats. These tanks will contribute to Morocco's goal of updating its military capability while further enhancing interoperability with the United States and other allies. Morocco will have no difficulty absorbing this equipment into its armed forces.

The proposed sale of this equipment and support will not alter the basic military balance in the region.

The prime contractor will be General Dynamics Land Systems in Sterling Heights, Michigan. Refurbishment work will be performed at Anniston Army Depot in Anniston, Alabama and the Joint Systems Manufacturing Center in Lima, Ohio. There are currently no known offset agreements proposed in connection with this potential sale, but one is expected due to Moroccan law.

Implementation of this proposed sale will require annual trips to Morocco involving up to 55 U.S. Government and 13 contractor representatives for a period of up to five years to manage the fielding and training for the program.

There will be no adverse impact on U.S. defense readiness as a result of this proposed sale.

Transmittal No. 18-08

Notice of Proposed Issuance of Letter of Offer Pursuant to Section 36(b)(1)of the Arms Export Control Act

Annex

Item No. vii

(vii) Sensitivity of Technology:

1. Thermal Imaging System (TIS). The TIS constitutes a target acquisition system which, when operated with other tank systems, gives the tank crew a substantial advantage over the potential threat. The TIS provides the gunner and commander with the ability to effectively aim and fire the tank main armament system under a broad range of adverse battlefield conditions. The Hunter/Killer technology provides the capability for the commander to search and acquire targets while the gunner engages priority targets. The hardware itself is UNCLASSIFIED. The engineering design and manufacturing data associated with the detector and infrared (IR) optics and coatings are considered sensitive. The technical data package is UNCLASSIFIED with the exception of the specifications for target acquisition range (CONFIDENTIAL).

2. Special Armor. Major components of special armor are fabricated in sealed modules and in serialized removable subassemblies. Special armor vulnerability data for both chemical and kinetic energy rounds are classified SECRET. Engineering design and manufacturing data related to special armor are also classified SECRET.

3. AGT 1500 Gas Turbine Propulsion System. The use of a gas turbine propulsion system in the M1A1 Abrams tank is a unique application of armored vehicle power pack technology. The hardware is composed of the AGT-1500 engine and transmission, and is not classified. Manufacturing processes associated with the production of turbine blades, recuperator, bearings and shafts, and hydrostatic pump and motor, are proprietary and therefore commercially competition sensitive.

4. Compartmentation. A major survivability feature of the Abrams Tank is the compartmentation of fuel and ammunition. Compartmentation is the positive separation of the crew and critical components from combustible materials such that in the event that the fuel or ammunition is ignited or deteriorated by an incoming threat round, the crew is fully protected. As demonstrated during the Abram Live Fire tests, compartmentation significantly enhances crew survivability and substantially reduces the likelihood of the tank being immobilized by an ammunition explosion and fire. Sensitive information includes the performance of the ammunition compartments as well as the compartment design parameters.

5. 120mm Gun and Ammunition. This gun and ammunition suite are composed of a 120mm smoothbore gun manufactured at Watervliet Arsenal, “long rod” APFSDS warheads, and combustible cartridge case ammunition. The current plan is to supply used cannons inducted at Anniston Army Depot, which are to be inspected according to established criteria and shipped to Lima Army Tank Plant. There may not be a need to procure new cannons for this program.

6. The CROWS-LP (M153A2E1) is a commander's weapon station. It allows for under armor operation of weapons—M2HB, M2A1, M240B and M240. The CROWS-LP is an updated version of the M153A2 CROWS that is approximately 10 inches shorter; the CROWS-LP M153A2E1 increases visibility over the weapon station. The fire control system of the CROWS-LP allows for “first-burst” on target capability from stationary and moving platforms. The CROWS-LP incorporates a day camera (VIM-C), thermal camera (TIM 1500) and laser range finder (STORM/STORM-PI).

7. M831Al Target Practice-Tracer (TP-T). The M831Al cartridge is a target practice round used to simulate the ballistics of the M830 High Explosive Anti-tank Multiple Purpose with Tracer (HEAT MP-T). The external cartridge is identical in appearance to the M830, but the round does not contain any explosives, shape charge liner, base fuze, or nose cap. The highest level of information that could be transferred with the sale of this round is UNCLASSIFIED. There are no sensitivity of technology issues with the HEAT MP-T, and the round is UNCLASSIFIED.

8. M865 Target Practice, Cone Stabilized, Discarding Sabot-Tracer. The M856 is a kinetic energy training round used to simulate the ballistics of the M829 Armor-piercing, Finstabilized, Discarding Sabot-Tracer service round. The M856 utilizes a unique cone stabilizer to limit the training round's flight range to 8km. The highest level of information that could be transferred with the sale of this round is UNCLASSIFIED.

9. If a technologically advanced adversary were to obtain knowledge of the hardware and software elements, the information could be used to develop countermeasures or equivalent systems which might reduce system effectiveness or be used in the development of a system with similar or advanced capabilities.

10. A determination has been made that the Government of Morocco can provide substantially the same degree of protection for the sensitive technology being released as the U.S. Government. This sale is necessary in furtherance of the U.S. foreign policy and national security objectives outlined in the Policy Justification.

11. All defense articles and services listed in this transmittal have been authorized for release and export to Morocco.

[FR Doc. 2019-01227 Filed 2-5-19; 8:45 am]

BILLING CODE 5001-06-P